DEPARTMENT OF JUSTICE

Notice of Lodging of Proposed Modification to Settlement Agreement Under the Clean Water Act

On July 23, 2013, the Department of Justice lodged a proposed Third Modification to the Settlement Agreement and Final Order (“Third Modification”) in United States and State of California ex rel. California Regional Water Quality Control Board, Los Angeles Region v. City of Los Angeles, Civil Action No. 01-191-RSWL, with the United States District Court for the Central District of California, Western Division. The United States and the State's action is consolidated with Santa Monica Baykeeper v. The City of Los Angeles, Civil Action No. 98-9039-RSWL.

The Proposed Third Modification adds several potential Supplemental Environmental Projects (“SEPs”) for the City to implement in order to meet the Settlement Agreement's requirement to spend $8.5 million on SEPs.

The publication of this notice opens a period for public comment on the Third Modification. Comments should be addressed to the Assistant Attorney General, Environment and Natural Resources Division, and should refer to United States and State of California ex rel. California Regional Water Quality Control Board, Los Angeles Region v. City of Los Angeles, D.J. Ref. No. 90-5-1-1-809/1. All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611 Washington, DC 20044-7611.

During the public comment period, the Consent Decree may be examined and downloaded at this Justice Department Web site: http://www.usdoj.gov/enrd/Consent_Decrees.html. We will provide a paper copy of the Third Modification upon written request and payment of reproduction costs. Please mail your request and payment to: Consent Decree Library, U.S. DOJ—ENRD, P.O. Box 7611, Washington, DC 20044-7611.

Please enclose a check or money order for $ 3.50 (25 cents per page reproduction cost) payable to the United States Treasury.

Maureen Katz,
Assistant Section Chief, Environmental Enforcement Section, Environment and Natural Resources Division.

[FR Doc. 2013-18046 Filed 7-26-13; 8:45 am]

BILLING CODE 4410-15-P